SECURITIES AND EXCHANGE COMMISSION

[Release No. 34-100726; File No. SR-NYSEAMER-2024-10]

Self-Regulatory Organizations; NYSE American LLC; Notice of Withdrawal of Proposed Rule Change To Amend Rule 915 To Permit the Listing and Trading of Options on the Bitwise Bitcoin ETF, the Grayscale Bitcoin Trust, and Any Trust That Holds Bitcoin

August 14, 2024.

Pursuant to Section 19(b)(1) of the Securities Exchange Act of 1934 (“Act”) ¹ and Rule 19b-4 thereunder,² NYSE American LLC (“Exchange”) filed with the Securities and Exchange Commission (“Commission”) a proposed rule change to amend Exchange Rule 915 to permit the listing and trading of options on the Bitwise Bitcoin ETF, the Grayscale Bitcoin Trust (BTC), and any trust that holds bitcoin (“Proposal”).

¹ 15 U.S.C. 78s(b)(1).

² 17 CFR 240.19b-4.

On February 29, 2024, the Proposal was published for comment in the Federal Register.³ On April 8, 2024, pursuant to Section 19(b)(2) of the Act,⁴ the Commission designated a longer period within which to approve the Proposal, disapprove the Proposal, or institute proceedings to determine whether to disapprove the Proposal.⁵ On April 24, 2024, the Commission instituted proceedings under Section 19(b)(2)(B) of the Act ⁶ to determine whether to approve or disapprove the Proposal.⁷ The Commission received comments addressing the Proposal.⁸

³ See Securities Exchange Act Release No. 99593 (Feb. 23, 2024), 89 FR 14911.

⁴ 15 U.S.C. 78s(b)(2).

⁵ See Securities Exchange Act Release No. 99921 (Apr. 8, 2024), 89 FR 25908 (Apr. 12, 2024).

⁶ 15 U.S.C. 78s(b)(2)(B).

⁷ See Securities Exchange Act Release No. 100023 (Apr. 24, 2024), 89 FR 34295 (Apr. 30, 2024).

⁸ Comment letters on the Proposal are available at https://www.sec.gov/comments/sr-nyseamer-2024-10/srnyseamer202410.htm.

On July 19, 2024, the Commission designated a longer time for Commission action on the Proposal.⁹ On August 9, 2024, the Exchange withdrew the Proposal (SR-NYSEAMER-2024-10).

⁹ See Securities Exchange Act Release No. 100565 (Jul. 19, 2024), 89 FR 60460 (Jul. 25, 2024).

For the Commission, by the Division of Trading and Markets, pursuant to delegated authority.¹⁰
¹⁰ 17 CFR 200.30-3(a)(12).
Sherry R. Haywood,
Assistant Secretary.

[FR Doc. 2024-18558 Filed 8-19-24; 8:45 am]

BILLING CODE 8011-01-P